DEPARTMENT OF HOMELAND SECURITY

U.S. Citizenship and Immigration Services

[CIS No. 2357-05]

RIN 1615-ZA26

Extension of the Designation of Liberia for Temporary Protected Status

AGENCY: U.S. Citizenship and Immigration Services, DHS.

ACTION: Notice.

SUMMARY: The designation of Liberia for Temporary Protected Status (TPS) will expire on October 1, 2005. This Notice extends the designation of Liberia for 12 months, until October 1, 2006, and sets forth procedures necessary for nationals of Liberia and aliens having no nationality who last habitually resided in Liberia with TPS to re-register and to apply for an extension of their employment authorization documents (EADs) for the additional 12-month period. Re-registration is limited to persons who registered under the current designation (which was announced on August 25, 2004). Certain nationals of Liberia (or aliens having no nationality who last habitually resided in Liberia) who previously have not applied for TPS under the current designation may be eligible to apply under the late initial registration provisions.

DATES: The extension of TPS for Liberia is effective October 1, 2005, and will remain in effect until October 1, 2006. The 60-day re-registration period begins August 16, 2005 and will remain in effect until October 17, 2005.

FOR FURTHER INFORMATION CONTACT: Colleen Cook, Residence and Status Services, Office of Programs and Regulations Development, U.S. Citizenship and Immigration Services, Department of Homeland Security, 111 Massachusetts Avenue, NW., 3rd Floor, Washington, DC 20529, telephone (202) 514-4754.

SUPPLEMENTARY INFORMATION:

Abbreviations and Terms Used in This Document

Act—Immigration and Nationality Act

ASC—USCIS Application Support Center

DHS—Department of Homeland Security

DOS—Department of State

EAD—Employment Authorization Document

GDP—Gross Domestic Product

IDP—Internally Displaced Person

NGO—Non-Governmental Organization

NTGL—National Transitional Government of Liberia

RIC—U.S. Citizenship and Immigration Services, Resource Information Center

TPS—Temporary Protected Status

UNHCR—United Nations High Commissioner for Refugees

USCIS—U.S. Citizenship and Immigration Services

What Authority Does the Secretary of Homeland Security Have To Extend the Designation of Liberia for TPS?

Under section 244 of the Immigration and Nationality Act (Act), 8 U.S.C. 1254a, the Secretary of Homeland Security, after consultation with appropriate agencies of the Government, is authorized to designate a foreign state (or part thereof) for TPS. 8 U.S.C. 1254a(b)(1). The Secretary of Homeland Security may then grant TPS to eligible nationals of that foreign state (or aliens having no nationality who last habitually resided in that state). 8 U.S.C. 1254a(a)(1).

At least 60 days before the expiration of the TPS designation or any extension thereof, section 244(b)(3)(A) of the Act requires the Secretary of Homeland Security to review, after consultation with appropriate agencies of the Government, the conditions in a foreign state designated for TPS to determine whether the conditions for a TPS designation continue to be met and, if so, the length of an extension of the TPS designation. 8 U.S.C. 1254a(b)(3)(A). If the Secretary of Homeland Security determines that the foreign state no longer meets the conditions for the TPS designation, he shall terminate the designation, as provided in section 244(b)(3)(B) of the Act. 8 U.S.C. 1254a(b)(3)(B). Finally, section 244(b)(3)(C) of the Act provides for the extension of TPS for an additional period of 6 months (or, in the discretion of the Secretary, a period of 12 or 18 months) unless the Secretary determines, at least 60 days before the designation or extension is due to end, that a foreign state (or part thereof) no longer meets the conditions for designation. 8 U.S.C. 1254a(b)(3)(C).

Why Did the Secretary of Homeland Security Decide To Extend the TPS Designation for Liberia?

On August 25, 2004, the Secretary of Homeland Security published a Notice in the Federal Register changing the justification for the TPS designation. This Notice terminated the TPS designation for Liberia due to the ongoing, armed conflict because the armed conflict had ceased. The Notice also re-designated Liberia for TPS due to “extraordinary and temporary conditions” caused by the past armed conflict. 69 FR 52297.

Over the past year, DHS and DOS have continued to review conditions in Liberia. Based on this review, the Department of Homeland Security has determined that a 12-month extension is warranted because the extraordinary and temporary conditions that prompted designation still persist. Further, DHS has determined that it is not contrary to the national interest of the United States to permit aliens who are eligible for TPS based on the designation of Liberia to remain temporarily in the United States. 8 U.S.C. 1254a(b)(1)(C).

On June 16, 2005, DOS recommended (DOS Recommendation) an extension of Liberia for TPS for 12-months. Although disarmament and demobilization of the warring factions has been completed with the disarmament of over 100,000 ex-combatants, funding shortfalls and a lack of sufficient rehabilitation and reintegration programs have the potential to destabilize the security situation in Liberia, and have led to riots among ex-combatants in Ganta. Id. In one area, ex-combatants briefly held NGO workers captive to protest the lack of rehabilitation and reintegration programs. Id.

The assisted and spontaneous return of refugees and internally displaced persons (IDP) remains slow. Id. Although the United Nations High Commissioner for Refugees (UNHCR) began facilitating returns in October 2004, it will not begin promoting returns until after the October 2005 elections, once it is convinced that peace and stability have firmly taken hold. Id. The U.S. Citizenship and Immigration Services (USCIS), Resource Information Center (RIC) reported (RIC Report, June 2005) that since November 2004, approximately 130,000 IDPs have received support to return to their homes. Another 200,000 IDPs living in camps continue to receive food assistance. Id. Approximately 222,000 Liberian refugees of the 340,000 refugees in the region remain outside of Liberia. (DOS Recommendation).

The Liberian economy continues to perform well below the pre-war level. Despite two percent growth in GDP in the past year, the Liberian economy operates at about one-third of its pre-war level, with a GDP of less than U.S. $500 million, compared with U.S. $1 billion in 1988. (RIC Report, June 2005). The National Transitional Government of Liberia (NTGL) is unable to provide employment (unemployment is at 85 percent) or essential social services. Id. Eighty percent of pre-war housing stock is still reported as damaged. Id. Although agricultural activities have started to expand, the percent of arable land under cultivation remains at less than ten percent. Id.

Based upon this review, the Secretary of Homeland Security, after consultation with appropriate Government agencies, finds that the conditions that prompted the re-designation of Liberia for TPS continue to be met. 8 U.S.C. 1254a(b)(3)(A). There are extraordinary and temporary conditions in Liberia that prevent aliens who are nationals of Liberia (or aliens having no nationality who last habitually resided in Liberia) from returning in safety, assuming these aliens meet the other statutory requirements for TPS. The Secretary of Homeland Security also finds that it is not contrary to the national interest of the United States to permit aliens who meet the eligibility requirements of TPS to remain temporarily in the United States. 8 U.S.C. 1254a(b)(1)(C). On the basis of these findings, the Secretary of Homeland Security concludes that the designation of Liberia for TPS should be extended for an additional 12-month period. 8 U.S.C. 1254a(b)(3)(C).

Following inter-agency consultation on conditions in Liberia, the Department is optimistic that elections scheduled for October 2005 will further stabilize conditions in Liberia. One million Liberians have registered to vote in the elections and, currently, there are 18 registered political parties and 43 presidential candidates. (RIC Report, June 2005).

If I Currently Have Benefits Through the TPS Designation of Liberia, Should I Re-register for TPS?

Yes. If you already have received benefits through the TPS designation of Liberia, your benefits will expire on October 1, 2005. Accordingly, you must comply with the re-registration requirements described below in order to maintain TPS benefits through October 1, 2006. TPS benefits include temporary protection against removal from the United States, as well as employment authorization, during the TPS designation period. 8 U.S.C. 1254a(a)(1).

If I Am Currently Registered for TPS, or Have a Pending Application for TPS, How Do I Re-register Under the Extension?

All persons previously granted TPS under the current designation of Liberia who wish to maintain such status must re-register under the extension by filing the following:

(1) Form I-821, Application for Temporary Protected Status, without fee;

(2) Form I-765, Application for Employment Authorization (see the chart below to determine whether you must submit the $175 filing fee with Form I-765) or a fee waiver request; and

(3) A biometric service fee of $70 if you are 14 years of age or older, or if you are under 14 and are requesting an Employment Authorization Document (EAD). The biometric service fee will not be waived. 8 CFR 103.2(e)(4)(i), (iii).

(4) Unlike previous registration periods, TPS applicants do not need to submit photographs with the TPS application because a photograph will be taken when the applicant appears at an USCIS Application Support Center (ASC) for collection of biometrics.

Aliens who have previously registered for TPS but whose applications remain pending should follow these instructions if they wish to renew their TPS benefits. An application submitted without the applicable fee(s) (if required) will be returned to the applicant.

Please note that the Form I-821 has been revised and only the form with Revision Date 11/5/04 will be accepted. Submissions of older versions of Form I-821 will be rejected. Submit the completed forms and applicable fee(s), if any, to the USCIS Chicago, IL Lockbox during the 60-day re-registration period that begins August 16, 2005 and ends October 17, 2005. An interim EAD will not be issued unless the Form I-765, as part of the TPS registration package, has been pending with USCIS more than 90 days after all requested initial evidence has been received, including collection of the applicant's biometrics at an ASC. See 8 CFR 103.2(b)(10)(ii) and 8 CFR 274a.13(d).

Where Should an Applicant for TPS Submit His or Her Application for Re-registration or for Late Initial Registration?

The Form I-821, Form I-765, fees, and all supporting documentation should be filed at the USCIS Chicago, IL Lockbox at:

U.S. Citizenship and Immigration Services, Attn: TPS Liberia, P.O. Box 87583, Chicago, IL 60680-0583.

Or, for non-United States Postal Service (USPS) deliveries:

U.S. Citizenship and Immigration Services, Attn: TPS Liberia, 427 S. LaSalle—3rd Floor, Chicago, IL 60605.

Please note that these addresses are not the same as where you submitted your forms to register for the current TPS designation. Aliens re-registering or late initial registering for TPS under the designation of Liberia should not bring or send their TPS forms and fees directly to a USCIS district office. Failure to follow these instructions will delay processing of your TPS re-registration application and may result in your application being returned to you.

Where Can I Obtain a Copy of the Revised Form I-821 Dated 11/5/04?

TPS forms are available from the toll-free USCIS Forms line, 1-800-870-3676, from your local USCIS district office, or from the USCIS Web site: http://www.uscis.gov.

Who Must Submit the $175 Filing Fee for the Form I-765?

(1) Although all re-registrants must submit the Form I-765, only those re-registrants requesting an EAD, regardless of age, must submit the $175 filing fee or a properly documented fee waiver request pursuant to 8 CFR 244.20.

(2) Persons between the ages of 14 and 65 (inclusive) filing under the late initial registration provisions who are requesting an EAD must also submit the $175 fee or a fee waiver request pursuant to 8 CFR 244.20.

(3) Aliens who are submitting Form I-765 only for data-gathering purposes (as explained in the chart below) are not required to submit a $175 filing fee, nor are they required to submit a fee waiver request.

Note that TPS re-registrants and applicants for late initial registration may wish to consider whether obtaining an EAD will be helpful to them for reasons other than verifying employment eligibility (for example, as a photo identity document and/or additional evidence of lawful presence in the United States in order to demonstrate eligibility for a driver's license in some states).

If | Then
You are re-registering for or renewing a TPS-related EAD, regardless of your age. | You must complete and file the Form I-765, Application for Employment Authorization, with the $175 fee or a fee waiver request in accordance with 8 CFR 244.20.
You are not requesting an EAD. | You must complete and file Form I-765 (for data-gathering purposes only) with no fee or fee waiver request.¹
You are filing under the late registration provisions, are requesting an EAD, and are between the ages of 14 and 65 (inclusive). | You must complete and file Form I-765 with the $175 fee initial or a fee waiver request in accordance with 8 CFR 244.20.
You are applying for a TPS-related EAD under the late initial registration provisions and are under age 14 or over age 65. | You must complete and file Form I-765 (for data-gathering purposes only) with no fee.
¹ An applicant who does not want an EAD does not need to submit the $175 fee, but must complete and submit Form I-765 for data-gathering purposes.

Who Must Submit the $70 Biometric Service Fee?

All aliens 14 years of age and older who are re-registering for TPS, renewing temporary treatment benefits, or filing for late initial registration must submit the $70 biometric service fee. In addition, since a photograph, signature, and fingerprint are required to produce an EAD, any applicant under the age of 14 choosing to apply for an EAD must submit the $70 biometric service fee. The biometric service fee will not be waived. 8 CFR 103.2(e)(4)(i), (iii).

Does TPS Lead to Lawful Permanent Residence?

No. TPS is a temporary benefit that does not lead to lawful permanent residence by itself or confer any other immigration status. 8 U.S.C. 1254a(e), (f)(1), and (h). TPS also does not cure any immigration status violations or periods of unlawful presence that may have accrued prior to an alien's grant of TPS, following withdrawal of TPS, or after termination of a TPS designation. When a country's TPS designation is terminated, TPS beneficiaries will have the same immigration status they held prior to TPS (unless that status has since expired or been terminated), or any other status they may have acquired while registered for TPS. Accordingly, if an alien held no lawful immigration status prior to being granted TPS and did not obtain any other status during the TPS period, he or she will have no lawful status upon the termination of the TPS designation. Once the Secretary determines that a TPS designation should be terminated, aliens who had TPS under that designation are expected to plan for their departure from the United States and may wish to apply for immigration benefits for which they may be eligible.

May I Apply for Another Immigration Benefit While Registered for TPS?

Yes. Registration for TPS does not prevent you from applying for another non-immigrant status, from filing for adjustment of status based on an immigrant petition, or from applying for any other immigration benefit or protection. 8 U.S.C. 1254a(a)(5). For the purposes of change of nonimmigrant status and adjustment of status, an alien is considered as being in, and maintaining, lawful status as a nonimmigrant during the period in which the alien is granted TPS. 8 U.S.C. 1254a(f)(4).

How Does an Application for TPS Affect My Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii).

Does This Extension Allow Nationals of Liberia (or Aliens Having no Nationality Who Last Habitually Resided in Liberia) Who Entered the United States After October 1, 2002, To Apply for TPS?

No. This is a Notice of an extension of the TPS designation of Liberia, not a Notice re-designating Liberia for TPS. An extension of a TPS designation does not change the required dates of continuous residence and continuous physical presence in the United States. This extension does not expand TPS availability to those beyond the current TPS eligibility requirements for Liberia. To be eligible for benefits under this extension, nationals of Liberia (or aliens having no nationality who last habitually resided in Liberia) must have been continuously physically present since August 25, 2004, and continuously resided in the United States since October 1, 2002.

Are Certain Aliens Ineligible for TPS?

Yes. There are certain criminal and terrorism-related inadmissibility grounds that render an alien ineligible for TPS. 8 U.S.C. 1254a(c)(2)(A)(iii). Further, aliens who have been convicted of any felony, or two or more misdemeanors, committed in the United States are ineligible for TPS under section 244(c)(2)(B) of the Act, 8 U.S.C. 1254a(c)(2)(B), as are aliens described in the bars to asylum in section 208(b)(2)(A) of the Act, 8 U.S.C. 1158(b)(2)(A).

What Is Late Initial Registration?

Some aliens who did not file for TPS during the initial registration period may be eligible for late initial registration under 8 U.S.C. 1254a(c)(1)(A) and (c)(2) and 8 CFR 244.2(f)(2) and (g). To apply for late initial registration an applicant must:

(1) Be a national of Liberia (or alien who has no nationality and who last habitually resided in Liberia);

(2) Have continuously resided in the United States since October 1, 2002;

(3) Have been continuously physically present in the United States since August 25, 2004; and

(4) Be admissible as an immigrant, except as provided under section 244(c)(2)(A) of the Act, and not ineligible under section 244(c)(2)(B) of the Act.

Additionally, the applicant must be able to demonstrate that during the registration period for this designation (from August 25, 2004 to February 21, 2005), he or she:

(1) Was a nonimmigrant or had been granted voluntary departure or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration within 60 days of the expiration or termination of the above-described conditions. 8 CFR 244.2(g). All late initial registration applications for TPS pursuant to the TPS extension of Liberia should be submitted to the USCIS lockbox address listed above.

What Happens When This Extension of TPS Expires on October 1, 2006?

At least 60 days before this extension of the TPS designation for Liberia expires on October 1, 2006, the Secretary of Homeland Security, after consultation with appropriate agencies of the Government, will review conditions in Liberia and determine whether the conditions for this TPS designation continue to be met at that time, or whether the TPS designation should be terminated. 8 U.S.C. 1254a(b)(3). Notice of that determination, including the basis for the determination, will be published in the Federal Register.

Notice of Extension of Designation of TPS for Liberia

By the authority vested in the Secretary of Homeland Security under sections 244(b)(3)(A) and (b)(3)(C) of the Act, DHS has determined, after consultation with the appropriate Government agencies, that the conditions that prompted designation of Liberia for TPS continue to be met. Accordingly, DHS orders as follows:

(1) The designation of Liberia under section 244(b)(1)(C) of the Act is extended for an additional 12-month period from October 1, 2005, to October 1, 2006. 8 U.S.C. 1254a(b)(3)(C).

(2) There are approximately 3,792 nationals of Liberia (or aliens having no nationality who last habitually resided in Liberia) who have been granted TPS and who are eligible for re-registration.

(3) To maintain TPS, a national of Liberia (or an alien having no nationality who last habitually resided in Liberia) who was granted TPS during the current designation must re-register for TPS during the 60-day re-registration period from August 16, 2005 until October 17, 2005.

(4) To re-register, the alien must file the following: (1) Form I-821, Application for Temporary Protected Status, without fee; (2) Form I-765, Application for Employment Authorization; and (3) a biometric services fee of $70 if the alien is age 14 or older, or if the alien is under age 14 and requesting an EAD. Applications submitted without the required fees will be returned to the applicant. If the alien requests an EAD, he or she must submit $175 or a properly documented fee waiver request, pursuant to 8 CFR 244.20, with the Form I-765. An alien who does not request employment authorization must still file Form I-765 along with Form I-821, but he or she is not required to submit the fee or a fee waiver request for filing Form I-765. Failure to re-register without good cause will result in the withdrawal of TPS. 8 U.S.C. 1254a(c)(3)(C). Aliens who have previously registered for TPS but whose applications remain pending should follow these instructions to renew temporary treatment benefits. Some persons who had not previously applied for TPS may be eligible for late initial registration under 8 CFR 244.2.

(5) At least 60 days before this extension ends on October 1, 2006, the Secretary of Homeland Security, after consultation with appropriate agencies of the Government, will review the designation of Liberia for TPS and determine whether the conditions for designation continue to be met. 8 U.S.C. 1254a(b)(3)(A). Notice of that determination, including the basis for the determination, will be published in the Federal Register. Id.

(6) Information concerning the extension of designation of Liberia for TPS will be available at local USCIS offices upon publication of this Notice and on the USCIS Web site at http://www.uscis.gov.

Dated: July 29, 2005.
Michael Chertoff,
Secretary.

[FR Doc. 05-16308 Filed 8-15-05; 8:45 am]

BILLING CODE 4410-10-P